DEPARTMENT OF COMMERCE

National Oceanic and Atmospheric Administration

RIN 0648-XC37

Marine Mammals; File No. 1032-1917

AGENCY: National Marine Fisheries Service (NMFS), National Oceanic and Atmospheric Administration (NOAA), Commerce.

ACTION: Notice; issuance of permit.

SUMMARY: Notice is hereby given that Robert A. Garrott, Ecology Department, Montana State University, 310 Lewis Hall, Bozeman, MT, 59717 has been issued a permit to conduct research on Weddell seals (Leptonychotes weddellii).

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Kate Swails or Tammy Adams, (301)713-2289.

SUPPLEMENTARY INFORMATION: On May 15, 2007, notice was published in the Federal Register (72 FR 27292) that a request for a scientific research permit to take the species listed above had been submitted by the above-named individual. The requested permit has been issued under the authority of the Marine Mammal Protection Act of 1972, as amended (16 U.S.C. 1361 et seq.), and the regulations governing the taking and importing of marine mammals (50 CFR part 216),

The purpose of the research is to evaluate how temporal variation in the marine environment affects a long-lived mammal's population dynamics. The applicant proposes to continue long-term studies of the Weddell seal population in the Erebus Bay, McMurdo Sound, Ross Sea, and White Island areas of Antarctica. Up to 325 adults and 800 pups will be captured annually. Animals will be weighed, tissued sampled, flipper tagged, and released. Annually up to 2000 Weddell, 50 crabeater (Lobodon carcinophagus), and 50 leopard (Hydrurga leptonyx) seals may be incidentally disturbed as a result of the research activities. The permit authorizes up to 4 (2 adults and 2 pups) Weddell seal research-related mortalities annually. The permit is valid for five years.

In compliance with the National Environmental Policy Act of 1969 (42 U.S.C. 4321 et seq.), a final determination has been made that the activity proposed is categorically excluded from the requirement to prepare an environmental assessment or environmental impact statement.

Dated: September 5, 2007.
P. Michael Payne,
Chief, Permits, Conservation and Education Division, Office of Protected Resources, National Marine Fisheries Service.

[FR Doc. E7-17777 Filed 9-7-07; 8:45 am]

BILLING CODE 3510-22-S